NATIONAL SCIENCE FOUNDATION

Advisory Committee for Engineering; Notice of Meeting

In accordance with Federal Advisory Committee Act (Pub. L. 92-463, as amended), the National Science Foundation announces the following meeting:

Name: Engineering Advisory Committee Meeting (#1170).

Date/Time: April 24, 2008: 12 p.m. to 6:30 p.m.; April 25, 2008: 8 a.m. to 12 p.m.

Place: National Science Foundation, 4201 Wilson Boulevard, Suite 1235, Arlington, Virginia 22230.

Type of Meeting: Open.

Contact Person: Wanda Smith, National Science Foundation, 4201 Wilson Boulevard, Suite 505, Arlington, Virginia 22230.

Purpose of Meeting: To provide advice, recommendations and counsel on major goals and policies pertaining to engineering programs and activities.

Agenda: The principal focus of the meeting on both days will be to discuss emerging issues and opportunities for the Directorate for Engineering and its divisions.

Dated: March 27, 2008.
Susanne Bolton,
Committee Management Officer.

[FR Doc. E8-6716 Filed 4-1-08; 8:45 am]

BILLING CODE 7555-01-P